ENVIRONMENTAL PROTECTION AGENCY

40 CFR Part 271

[EPA-R07-RCRA-2012-0719; FRL-9744-3]

Missouri: Authorization of State Hazardous Waste Management Program Revisions

AGENCY: Environmental Protection Agency (EPA).

ACTION: Proposed rule.

SUMMARY: Missouri has applied to EPA for final authorization for the changes to its hazardous waste program under the Resource Conservation and Recovery Act (RCRA). EPA proposes to grant final authorization to Missouri.

DATES: Comments on this proposed action must be received in writing by November 26, 2012.

ADDRESSES: Submit your comments, identified by Docket ID No. EPA-R07-RCRA-2012-0719 by one of the following methods:

1. http://www.regulations.gov: Follow the on-line instructions for submitting comments.

2. Email: jackson-johnson.berla@epa.gov.

3. Mail: Berla Jackson-Johnson, Environmental Protection Agency, Waste Enforcement & Materials Management Branch, 11201 Renner Blvd., Lenexa, Kansas 66219.

4. Hand Delivery or Courier. Deliver your comments to Berla Jackson-Johnson, Environmental Protection Agency, RCRA Enforcement and State Programs Branch, 11201 Renner Blvd., Lenexa, Kansas 66219. Such deliveries are only accepted during the Regional Office's normal hours of operation. The Regional Office's official hours of business are Monday through Friday, 8:00 to 4:30, excluding legal holidays.

Please see the direct final rule which is located in the Rules section of this Federal Register for detailed instructions on how to submit comments.

FOR FURTHER INFORMATION CONTACT: Berla Jackson-Johnson at 913-551-7720, or by email at jackson-johnson.berla@epa.gov.

SUPPLEMENTARY INFORMATION: In the final rules section of the Federal Register, EPA is authorizing the changes by an immediate final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: October 11, 2012.
Karl Brooks,
Regional Administrator, Region 7.

[FR Doc. 2012-26427 Filed 10-25-12; 8:45 am]

BILLING CODE 6560-50-P